DEPARTMENT OF HEALTH AND HUMAN SERVICES

Food and Drug Administration

[Docket No. FDA-2024-N-0730]

Cheese Products Deviating From Standard of Identity; Temporary Permit for Market Testing

AGENCY: Food and Drug Administration, HHS.

ACTION: Notice.

SUMMARY: The Food and Drug Administration (FDA or we) is announcing an amendment to the temporary permit issued to Bongards' Creameries to market test pasteurized process cheese deviating from the standard of identity for these cheeses by using extra virgin olive oil as the slice anti-sticking agent. We are also announcing an extension to this permit, which allows Bongards' Creameries to continue to evaluate commercial viability of the product and to collect data on consumer acceptance of the product in support of a petition to amend the standard of identity. We invite other interested parties to participate in the market test.

DATES: The new expiration date of the permit will be either the effective date of a final rule amending the standard of identity of cheese products that may result from the petition or 30 days after denial of the petition.

FOR FURTHER INFORMATION CONTACT: Marjan Morravej, Product Evaluation Labeling Branch, Division of Food Labeling and Standards, Office of Nutrition and Food Labeling, Nutrition Center of Excellence, Human Foods Program, Food and Drug Administration, 5001 Campus Dr., College Park, MD 20740, 240-402-2371, FDAFoodsProgramTMP@fda.hhs.gov, or Keronica Richardson, Office of Policy, Regulations, and Information, Human Foods Program, Food and Drug Administration, 5001 Campus Dr., College Park, MD 20740, 240-402-2378.

SUPPLEMENTARY INFORMATION: In the Federal Register of April 28, 2023 (88 FR 26322), we issued a temporary permit to Bongards' Creameries, to market test products deviating from the standards of identity for cheeses and cheese products under 21 CFR 133.167, 133.169, 133.170, 133.171, 133.173, 133.174, 133.175, 133.179, and 133.180. The permit allowed Bongards' Creameries to use extra virgin olive oil as the slice anti-sticking agent in these cheeses and cheese products, which is not permitted under their standards of identity.

On October 14, 2024, Bongards' Creameries requested that its permit be amended to list 21 CFR 133.169 as the applicable standard of identity from which its products may deviate. Such action would remove all other standards of identity from the permit. Accordingly, consistent with 21 CFR 130.17(f), we are amending the temporary permit issued to Bongards' Creameries to provide that it may test market products that deviate from the standard of identity for pasteurized process cheese under 21 CFR 133.169. All other terms and conditions of this permit remain the same.

In addition, we are announcing the extension of this permit in accordance with 21 CFR 130.17(i). On March 18, 2024, Bongards' Creameries submitted a request to extend the temporary permit. On this same date, Bongards' Creameries submitted a citizen petition (Docket No. FDA-2024-P-1570) requesting that we amend multiple standards of identity for cheeses and cheese products. On October 17, 2024, Bongards' Creameries submitted an amended citizen petition (Docket No. FDA-2024-P-1570), requesting that we amend the standard of identity for pasteurized process cheese at 21 CFR 133.169 to include extra virgin olive oil as a slice anti-sticking agent in the manufacture of such food.

We find that it is in the interest of consumers to extend the permit for continued market testing to gain additional information on consumer expectations and acceptance. Therefore, under § 130.17(i), we are extending the temporary permit granted to Bongards' Creameries for temporary marketing of a maximum of 20 million pounds (9.09 million kilograms) of pasteurized process cheese made with olive oil as the slice anti-sticking agent. The new expiration date of the permit will be either the effective date of a final rule on the proposal in the petition or 30 days after denial of the petition. All other conditions and terms of this permit remain the same.

In addition, consistent with 21 CFR 130.17(i), we invite interested persons to participate in the market test under the conditions of Bongards' Creameries' permit. Under 21 CFR 130.17(i), any person who wishes to participate in the extended market test must notify FDA of their intent to participate. The notification must indicate the products to be tested, provide the area of distribution and amount of product to be distributed, and include the labeling that will be used for the test product. We request that a draft label for each test product and each brand of product be submitted. The information panels on the labels of the test products must bear nutrition labeling in accordance with 21 CFR 101.9. Each of the ingredients used in the food must be declared on the label as required by 21 CFR part 101. Interested persons should submit their notifications to the Branch Chief, Product Evaluation Labeling Branch, Division of Food Labeling and Standards, Office of Nutrition and Food Labeling, Nutrition Center of Excellence, Human Foods Program, via FDAFoodsProgramTMP@fda.hhs.gov.

Dated: June 13, 2025.
Grace R. Graham,
Deputy Commissioner for Policy, Legislation, and International Affairs.

[FR Doc. 2025-11209 Filed 6-17-25; 8:45 am]

BILLING CODE 4164-01-P